INTERNATIONAL TRADE COMMISSION

[Investigation No. 337-TA-666 (Modification Proceeding)]

Certain Cold Cathode Fluorescent Lamp (“CCFL”) Inverter Circuits and Products Containing Same; Commission's Determination To Institute a Modification Proceeding; Modification of the September 25, 2009 Consent Order; Termination of the Proceeding

AGENCY: U.S. International Trade Commission.

ACTION: Notice.

SUMMARY: Notice is hereby given that the U.S. International Trade Commission has determined to institute a modification proceeding, modify the Commission's September 25, 2009 Consent Order, and terminate the modification proceeding.

FOR FURTHER INFORMATION CONTACT: Amanda S. Pitcher, Office of the General Counsel, U.S. International Trade Commission, 500 E Street SW., Washington, DC 20436, telephone (202) 205-2737. The public version of the complaint can be accessed on the Commission's electronic docket (EDIS) at http://edis.usitc.gov, and will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted the investigation on January 14, 2009, based on a complaint filed by O2 Micro International, Ltd. of the Cayman Islands and O2 Micro, Inc. of Santa Clara, California. 74 FR 2099. The complaint alleged violations of section 337 of the Tariff Act of 1930 (19 U.S.C. 1337) in the importation into the United States, the sale for importation, and the sale within the United States after importation of certain cold cathode fluorescent lamp inverter circuits and products containing the same by reason of infringement of various U.S. patents. The complaint named ten respondents, including LG Display Co., Ltd. and LG display America, Inc. (collectively “LGD”). On September 25, 2009, the Commission terminated the investigation as to LGD based on a consent order. Notice of Commission Decision Not To Review an Initial Determination Terminating the Investigation with Respect to Respondents LG Display Co., Ltd. and LG Display America, Inc. Based on a Consent Order.

On November 20, 2012, Respondents LGD filed a petition to modify the Commission's Consent Order based on allegations of changed circumstances. Specifically, LGD asked that paragraph 13 of the Consent Order, which contains a reporting requirement, be cancelled. On November 29, 2012, the Commission investigative attorney filed a response which did not oppose LGD's petition. Complainants did not file a response to LGD's petition.

The Commission has determined on its own initiative, to institute a modification proceeding. Upon consider of these particular circumstances, the Commission has determined that it is appropriate to modify the September 25, 2009 Consent Order by deleting paragraph 13. The Commission also terminates the modification proceeding.

The authority for the Commission's determination is contained in section 337 of the Tariff Act of 1930, as amended (19 U.S.C. 1337), and in section 210.76 of the Commission's Rules of Practice and Procedure (19 CFR 210.76).

Issued: March 13, 2013.
By order of the Commission.
Lisa R. Barton,
Acting Secretary to the Commission.

[FR Doc. 2013-06166 Filed 3-15-13; 8:45 am]

BILLING CODE 7020-02-P